DEPARTMENT OF ENERGY

Notice of Orders Issued Under Section 3 of the Natural Gas Act During October 2018

| FE docket Nos.
MPOWER ENERGY LLC | 18-149-NG
STAND ENERGY CORPORATION | 18-150-NG
MEXICANA DE COBRE, S.A. DE C.V | 18-151-NG
CALPINE ENERGY SERVICES, L.P | 18-152-NG
NORTHWESTERN CORPORATION d/b/a NORTHWESTERN ENERGY | 18-153-NG
UGI ENERGY SERVICES, LLC | 18-129-NG
PETRO HARVESTER OPERATING COMPANY, LLC | 18-143-NG
CITY OF GLENDALE WATER AND POWER | 18-139-NG
IMPERIAL IRRIGATION DISTRICT | 18-141-NG
SPRAGUE OPERATING RESOURCES LLC | 18-140-NG
MAY DAY MOVERS, LLC | 18-142-NG
DIRECT ENERGY MARKETING, LLC | 18-146-NG
SPECTRUM LNG, L.L.C | 18-147-LNG
PUGET SOUND ENERGY, INC | 18-148-LNG
BP ENERGY COMPANY | 18-154-NG
EXELON GENERATION COMPANY, LLC | 18-155-NG
ENERGIA DE BAJA CALIFORNIA, S. DE R.L. DE C.V | 18-156-NG
ENERGIA CHIHUAHUA, S.A. DE C.V | 18-157-NG
MC GLOBAL GAS CORPORATION | 18-158-LNG
TEXAS EASTERN TRANSMISSION, LP | 18-159-NG
CASTLETON COMMODITIES MERCHANT TRADING L.P | 18-161-NG

AGENCY: Office of Fossil Energy, Department of Energy.

ACTION: Notice of orders.

SUMMARY: The Office of Fossil Energy (FE) of the Department of Energy gives notice that during October 2018, it issued orders granting authority to import and export natural gas, to import and export liquefied natural gas (LNG), and vacating prior authorization. These orders are summarized in the attached appendix and may be found on the FE website at https://www.energy.gov/fe/listing-doefe-authorizationsorders-issued-2018-0.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on November 27, 2018.
Amy Sweeney,
Director, Division of Natural Gas Regulation.

Appendix—DOE/FE Orders Granting Import/Export Authorizations
4278 | 10/16/18 | 18-149-NG | MPower Energy LLC | Order 4278 granting blanket authority to import/export natural gas from/to Canada.
4279 | 10/16/18 | 18-150-NG | Stand Energy Corporation | Order 4279 granting blanket authority to export natural gas to Canada/Mexico.
4280 | 10/16/18 | 18-151-NG | Mexicana de Cobre, S.A. de C.V | Order 4280 granting blanket authority to export natural gas to Mexico.
4281 | 10/16/18 | 18-152-NG | Calpine Energy Services, L.P | Order 4281 granting blanket authority to import natural gas from Canada.
4282 | 10/16/18 | 18-153-NG | Northwestern Corporation d/b/a Northwestern Energy | Order 4282 granting blanket authority to import/export natural gas from/to Canada.
Errata | 10/25/18 | 18-129-NG | UGI Energy Services, LLC | Errata Order 4257.
4283 | 10/25/18 | 18-143-NG | Petro Harvester Operating Company, LLC | Order 4283 granting long-term authority to export natural gas to Canada.
4284 | 10/25/18 | 18-139-NG | City of Glendale Water and Power | Order 4284 granting blanket authority to import natural gas from Canada.
4285 | 10/25/18 | 18-141-NG | Imperial Irrigation District | Order 4285 granting blanket authority to import/export natural gas from/to Mexico.
4286 | 10/25/18 | 18-140-NG | Sprague Operating Resources LLC | Order 4286 granting blanket authority to import natural gas from Canada.
4287 | 10/25/18 | 18-142-NG | May Day Movers, LLC | Order 4287 granting blanket authority to export natural gas to Canada/Mexico.
4288 | 10/25/18 | 18-146-NG | Direct Energy Business Marketing, LLC | Order 4288 granting blanket authority to import/export natural gas from/to Canada.
4289 | 10/25/18 | 18-147-LNG | Spectrum LNG, L.L.C | Order 4249 granting blanket authority to export LNG to Mexico by truck.
4290 | 10/25/18 | 18-148-LNG | Puget Sound Energy, Inc | Order 4290 granting blanket authority to import LNG from Canada by truck.
4291 | 10/25/18 | 18-154-NG | BP Energy Company | Order 4291 granting blanket authority to import/export natural gas from/to Canada/Mexico.
4292 | 10/25/18 | 18-155-NG | Exelon Generation Company, LLC | Order 4292 granting blanket authority to import/export natural gas from/to Canada.
4293 | 10/25/18 | 18-156-NG | Energia de Baja California, S. de R.L. de C.V | Order 4293 granting blanket authority to export natural gas to Mexico.
4294 | 10/25/18 | 18-157-NG | Energia Chihuahua, S.A. de C.V | Order 4294 granting blanket authority to export natural gas to Mexico.
4295 | 10/25/18 | 18-158-LNG | MC Global Gas Corporation | Order 4295 granting blanket authority to import LNG from various international sources by vessel.
4296 | 10/25/18 | 18-159-NG | Texas Eastern Transmission, LP | Order 4296 granting blanket authority to import/export natural gas from/to Mexico.
4297 | 10/25/18 | 18-161-NG | Castleton Commodities Merchant Trading L.P | Order 4297 granting blanket authority to import/export natural gas from/to Canada/Mexico.

[FR Doc. 2018-26085 Filed 11-29-18; 8:45 am]

BILLING CODE 6450-01-P